DEPARTMENT OF DEFENSE

Department of the Navy

Notice of Intent To Grant Partially Exclusive Patent License; Epitracker, LLC

AGENCY: Department of the Navy, DoD.

ACTION: Notice.

SUMMARY: The Department of the Navy hereby gives notice of its intent to grant to Epitracker, LLC, a revocable, nonassignable, partially exclusive license in the United States to practice the Government-Owned inventions described in U.S. Patent Application No. 14/591660—“Use of heptadecanoic acid (C17:0) to detect risk of and treat hyperferritinemia and metabolic syndrome”.

DATES: Anyone wishing to object to the grant of this license must file written objections along with supporting evidence, if any, no later than May 22, 2015.

ADDRESSES: Written objections are to be filed with the Office of Research and Technology Applications, Space and Naval Warfare Systems Center Pacific, Code 72120, 53560 Hull St., Bldg. A33 Room 2531, San Diego, CA 92152-5001.

FOR FURTHER INFORMATION CONTACT: Brian Suh, Office of Research and Technology Applications, Space and Naval Warfare Systems Center Pacific, Code 72120, 53560 Hull St., Bldg. A33 Room 2531, San Diego, CA 92152-5001, telephone 619-553-5118, E-Mail: brian.suh@navy.mil.

Authority: 35 U.S.C. 207, 37 CFR part 404.

Dated: May 1, 2015.
N.A. Hagerty-Ford,
Commander, Judge Advocate General's Corps, U.S. Navy, Federal Register Liaison Officer.

[FR Doc. 2015-10990 Filed 5-6-15; 8:45 am]

BILLING CODE 3810-FF-P